DEPARTMENT OF DEFENSE

Office of the Secretary

[Transmittal No. 25-71]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-71, Policy Justification, and Sensitivity of Technology.

Dated: January 29, 2026.
Stephanie J. Bost,
Alternate OSD Federal Register Liaison Officer, Department of Defense.

Transmittal No. 25-71

Notice of Proposed Issuance of Letter of Offer Pursuant to Section 36(b)(1) of the Arms Export Control Act, as amended

(i) Prospective Purchaser: Republic of Korea

(ii) Total Estimated Value:

Major Defense Equipment * | $32 million
Other | $ 2 million
Total | $34 million

(iii) Description and Quantity or Quantities of Articles or Services under Consideration for Purchase:

Major Defense Equipment (MDE):

Forty-four (44) AGM-65G2 Maverick tactical missiles

Non-Major Defense Equipment:

The following non-MDE items will be included: United States (U.S.) Government and contractor engineering; technical, and logistics support services; and other related elements of logistics and program support.

(iv) Military Department: Air Force (KS-D-YBC)

(v) Prior Related Cases, if any: KS-D-YHF

(vi) Sales Commission, Fee, etc., Paid, Offered, or Agreed to be Paid: None known at this time

(vii) Sensitivity of Technology Contained in the Defense Article or Defense Services Proposed to be Sold: See Attached Annex

(viii) Date Report Delivered to Congress: October 1, 2025

* as defined in Section 47(6) of the Arms Export Control Act.

POLICY JUSTIFICATION

Republic of Korea—AGM-65G2 Maverick Tactical Missiles

The Republic of Korea has requested to buy forty-four (44) AGM-65G2 Maverick tactical missiles. The following non-Major Defense Equipment items will be included: U.S. Government and contractor engineering; technical, and logistics support services; and other related elements of logistics and program support. The estimated total cost is $34 million.

This proposed sale will support the foreign policy and national security objectives of the U.S. by improving the security of a major ally that is an important force for political stability and economic progress in the Indo-Pacific region.

This proposed sale will improve the Republic of Korea's capability to meet current and future threats by increasing its critical air defense capability to deter aggression in the region and to ensure interoperability with U.S. forces. The Republic of Korea already has Maverick missiles in its inventory and will have no difficulty absorbing these articles into its armed forces.

The proposed sale of this equipment and support will not alter the basic military balance in the region.

The principal contractor will be RTX Corporation, located in Arlington, VA. The purchaser typically requests offsets. At this time, the U.S. Government is not aware of any offset agreement proposed in connection with this potential sale. Any offset agreement will be defined in negotiations between the purchaser and the contractor

Implementation of this proposed sale will not require the assignment of any additional U.S. Government or contractor representatives to the Republic of Korea.

There will be no adverse impact on U.S. defense readiness as a result of this proposed sale.

Transmittal No. 25-71

Notice of Proposed Issuance of Letter of Offer Pursuant to Section 36(b)(1) of the Arms Export Control Act

Annex

Item No. vii

(vii) Sensitivity of Technology:

1. The AGM-65G2 Maverick tactical missile is an air-to-ground missile with a lock on before launch, day or night capability. The AGM-65G2 has an imaging infrared (IIR) guidance system that allows for locking onto larger targets, such as ships. The IIR can track heat generated by a target and provides the pilot with a pictorial display of the target during darkness and hazy or inclement weather. The warhead on the AGM-65G2 is a heavyweight penetrator warhead.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that the Republic of Korea can provide substantially the same degree of protection for the sensitive technology being released as the U.S. Government. This sale is necessary in furtherance of the U.S. foreign policy and national security objectives outlined in the Policy Justification.

5. All defense articles and services listed in this transmittal have been authorized for release and export to the Republic of Korea.

[FR Doc. 2026-02058 Filed 1-30-26; 8:45 am]

BILLING CODE 6001-FR-P